DEPARTMENT OF HOUSING AND URBAN DEVELOPMENT

[Docket No. FR-5130-N-27]

Privacy Act; Notification of an Amendment to an Existing Privacy Act System of Records; Inventory Management System (IMS) (Formerly—The Public and Indian Housing Information Center (PIC))

AGENCY: Office of the Chief Information Officer, HUD.

ACTION: Notification of an Amendment to a Privacy Act System of Records.

SUMMARY: The Department of Housing and Urban Development (HUD) proposes to amend one of its Privacy Act record systems subject to the Privacy Act of 1974 (5 U.S.C. 552a), as amended. The amendment is to reflect changes in the system name, location, new system managers and current updates to the “Purpose” and “Systems Security Measures” statements. This system is managed and operated by HUD's Office of Public and Indian Housing. IMS replaces the former Public and Indian Housing Information Center (PIC) system. The notice for the PIC system was published at 67 FR 20986. This record system supports the administration of programs for families receiving housing assistance for those entities that administer HUD's Office of Public and Indian Housing rental assistance programs. The entities that administer PIH's rental assistance programs are the Public Housing Authorities (PHAs). Additionally, as part of HUD's oversight responsibility, the collected data maintained in IMS is used to calculate the amount of subsidy authorized and disbursed to PHAs and to monitor PHAs' overall performance and use of HUD funds. The existing scope, objectives, and business processes in place for this program remain unchanged.

System Security Measures: The availability and data in IMS are important. Much of the data needs to be protected from unanticipated or unintentional modification. HUD restricts the use of the information to HUD's oversight responsibility, and access to the IMS is controlled by using the Web Access Security System (WASS) security module, which requires users to use the single sign-on security interface. WASS consists of a secure connection component and a secure systems component. WASS provides an overall security umbrella for thousands of HUD-wide system users. The secure connection component of WASS includes online registration forms that are accessible via the World Wide Web and are used by HUD's trusted Business Partners to submit requests for the authority to access secure systems that reside behind HUD's firewall. The data captured by the secure connection registration page is used to establish authorized user on the Lightweight Directory Access Protocol (LDAP) server. Secure connection provides system level security by validating users against the LDAP server prior to providing users access to HUD's Secure System environment from the internet by: (1) The WASS module controls a user's access, updates access, read-only access, and approval access based on the user's role and security access level; (2) unauthorized system access is reduced by restricting access by job function and by the use of user identifications (User IDs) and password and user IDs that are utilized to identify the transaction by users; (3) inaccurate and incomplete data are identified and eliminated with extensive edits; and (4) data corruption/destruction is handled by limiting user IDs that have update rights to the production server/databases.

Data Quality: PHAs enter management, building and unit inventory details, and family information into IMS. Family data includes the families' names, social security numbers (SSN), and dates of birth. The social security number search feature was established to help HUD maintain data quality and integrity and to support one of its strategic objectives to prevent fraud and abuse. This search feature: (1) Helps to confirm that those families entitled to benefits receive benefits; (2) assists in limiting the duplication of benefits; and (3) helps to prevent submission of false applications for benefits, thereby ensuring data quality.

DATES: Effective Date: This action shall be effective without further notice on November 5, 2008 unless comments are received that would result in a contrary determination.

Comments Due Date: November 5, 2008.

ADDRESSES: Interested persons are invited to submit comments regarding this notice to the Rules Docket Clerk, Office of General Counsel, Room 10276, Department of Housing and Urban Development, 451 7th Street, SW., Washington, DC 20410. Communications should refer to the above docket number and title. A copy of each communication submitted will be available for public inspection and copying between 8 a.m. and 5 p.m. weekdays at the above address.

FOR FURTHER INFORMATION CONTACT: Donna Robinson-Staton, Departmental Privacy Act Officer, Department of Housing and Urban Development, 451 Seventh Street, SW., Room 2256, Washington, DC 20410, Telephone Number (202) 402-8073. (This is not a toll-free number.) A telecommunication device for hearing- and speech-impaired individuals (TTY) is available at 1-800-877-8339 (Federal Information Relay Service).

SUPPLEMENTARY INFORMATION: Pursuant to the Privacy Act of 1974 (5 U.S.C. 552a), as amended, this notice is HUD's notification of its intent to amend this system of records for IMS, HUD/PIH-4. Title 5 U.S.C. 552a(e)(4) and (11) provide that the public be afforded a 30-day period in which to comment on the amended system of records, and require published notice of the existence and character of the system of records.

The system report was submitted to the Office of Management and Budget (OMB), the Senate Committee on Governmental Affairs, and the House Committee on Government Reform pursuant to paragraph 4c of Appendix 1 to OMB Circular No. A-130, “Federal Agency Responsibilities for Maintaining Records About Individuals,” July 25, 1994; 59 FR 37914.

Authority: 5 U.S.C. 552a, 88 Stat. 1896; 42 U.S.C. 3535(d).

Dated: September 15, 2008.
Lisa Schlosser,
Chief Information Officer.

HUD/PIH-4

SYSTEM NAME:

Inventory Management System (IMS) formerly known as the Public and Indian Housing (PIH) Information Center (PIC).

SYSTEM LOCATION:

IMS system servers are located in Charleston, WV; and access is through the Internet. The servers are maintained by HUD Information Technology Services (HITS) contractor, and HUD's information technology partners: Electronic Data Services (EDS) and Lockheed Martin.

CATEGORIES OF INDIVIDUALS COVERED BY THE SYSTEM:

Families receiving rental housing assistance via programs administered by the Department of Housing and Urban Development, State Agencies, PHAs.

CATEGORIES OF RECORDS IN THE SYSTEM:

Categories of records in the system: Records consist of automated building and unit inventory details, family composition details, income, and rent data obtained from PHAs. More specifically, the system of records contains: Identification information such as names and social security numbers for individuals 6 years and older; alien registration information; address and tenant unit numbers; financial data such as income, adjustments to income, tenant family composition characteristics such as family size, sex of family members, information about the family that would qualify them for certain adjustments or for admission to a project limited to a special population (e.g., elderly, handicapped, or disabled); relationships of members of the household to the head of household (e.g., spouse, child); preferences applicable to the family at admission; income status at admission; race and ethnicity of household members; unit characteristics such as number of bedrooms; geographic data obtained by the PHA.

AUTHORITY FOR MAINTENANCE OF THE SYSTEM:

• The U.S. Housing Act of 1937, as amended, 42 U.S.C. 1437 et seq;

• The Housing Community Development Act of 1981, Public Law 97-35, 85 stat., 348,408 requires applicants and residents to provide the information collected; and

• The Housing and Community Development Act of 1987, 42 U.S.C. 3543, requires applicants and residents to provide the SSN(s) of household members at least six (6) years old.

• Title VI of the Civil Rights Act of 1962 (42 U.S.C. 2000d), and by the Fair Housing Act (42 U.S.C. 3601-19).

PURPOSE:

An applicant for public housing completes or a PHA representative assists in filling out an application that determines an applicant's eligibility for public housing assistance. The following information assists in the eligibility determination: (1) Names of all persons who will be living in the unit, their sex, race, date of birth, and relationship to the family head; (2) Present address and telephone number; (3) Family characteristics (e.g., veteran) or circumstances (e.g., living in substandard housing) that might qualify the family for tenant selection preferences) or disability; (4) Names and addresses of current and previous landlords for information concerning the family's suitability as a tenant; (5) An estimate of the family's anticipated income for the next twelve months and the sources of that income; (6) The names and addresses of employers, banks, and any other information the PHA would need to verify income and deductions, and to verify the family composition. A housing official may visit the present home to interview the applicant and applicant's family members to see how the present home is managed and maintained.

IMS also allows PHAs to electronically submit information to HUD that is related to the administration of HUD's Public and Indian Housing programs. It collects data for PIH operations, including data submitted via the Internet from HUD's field offices and HUD's business partners, and accurately tracks activities and processes. IMS also helps to increase sharing of information throughout the Office of Public and Indian Housing, which improves staff awareness of activities related to the administration of HUD-subsidized housing programs. IMS is a flexible, scaleable, Internet-based integrated system, which enables PHA users and HUD personnel to access a common database of PHA information via their web browser. IMS aids HUD and entities that administer HUD's assisted housing programs in: (a) Increasing the effective distribution of rental assistance to individuals that meet the requirements of Federal rental assistance programs; (b) Detecting abuses in assisted housing programs; (c) Taking administrative or legal actions to resolve past abuses of assisted housing programs; (d) Deterring abuses by verifying the employment and income of applicants and tenants at the time of occupancy and at re-certification via the PIH-REAC Enterprise Income Verification (EIV); (e) evaluating the effectiveness of income discrepancy resolution actions taken by PHAs for HUD's rental assistance programs; (f) Evaluating program effectiveness; (g) Improving the reporting rate; (h) Forecasting budgets; (i) Controlling funds; and (j) Updating building and unit data. The Public and Indian Housing's IMSystem serves as a repository for automated information used when comparing family income data reported, by recipients of Federal rental assistance, to income data received from external sources.

Records in IMS are subject to use in authorized and approved computer matching programs regulated under the Privacy Act of 1974, as amended. Routine uses of records maintained in the system, including Categories of Users and purposes of such uses:

In addition to the uses cited in the section of this document titled “Purposes”, other routine uses may include:

1. To federal, state, and local agencies (e.g., state agencies administering the state's unemployment compensation laws, state welfare and food stamp agencies, U.S. Office of Personnel Management, U.S. Social Security Administration, and the Office of Child Support Enforcement Center's National Directory of New Hires database to verify the accuracy and completeness of the data provided, to verify eligibility or continued eligibility in HUD's rental assistance programs, and to aid in the identification of tenant errors, fraud, and abuse in assisted housing programs through HUD's tenant income computer matching program;

2. To individuals under contract to HUD or under contract to another agency with funds provided by HUD for the preparation of studies and statistical reports directly related to the management of HUD's rental assistance programs, to support quality control for tenant eligibility efforts requiring a random sampling of tenant files to determine the extent of administrative errors in making rent calculations, eligibility determinations, etc., and for processing certifications/re-certifications;

3. To Public Housing Agencies (PHAs) to verify the accuracy and completeness of tenant data used in determining eligibility and continued eligibility and the amount of housing assistance received and to complete and submit Occupancy report, SEMAP certification, PHA contact information, and upload Form 50058. Any information shared back to the PHAs will pertain only to that PHA's operations, no other PHA's operations;

4. To private owners of assisted housing to verify the accuracy and completeness of applicant and tenant data used in determining eligibility and continued eligibility and the amount of housing assistance received;

5. To PHAs, owners and management agents, and contract administrators to identify and resolve discrepancies in tenant data;

6. To the Social Security Administration and Immigration and Naturalization Service to verify alien status and continued eligibility in HUD's rental assistance programs; and

7. To researchers affiliated with academic institutions, with not-for-profit organizations, or with federal, state or local governments, or to policy researchers without individual identifiers (name, address, social security number) for the performance of research and statistical activities on housing and community development issues

Below are other routine uses of records maintained in the system and the purposes of such uses:

1. PHA complete and submit Occupancy report, SEMAP certification, PHA contact information, upload Form 50058.

2. Field Offices review SEMAP certifications, review, and approve or reject occupancy reports, resolve Form 50058 errors.

3. Web Access SubSystem (WASS) authenticates user name and password before user can access Public Indian Housing (PIH)-IMS.

4. Line of Credit Control System/Program Accounting System (LOCCS/PAS) feeds funding data such as grant details to the public housing authorities.

5. PHA scoring data produced by Integrated Asset Subsystem (NASS) provides the data to PIH-IMS.

6. HUD Central Accounting and (HUDCAPS) data mart provides financial management info to PIH, Housing Inventory, Management reports, and Module 50058.

7. Voucher management System serves as the source of leased units for voucher funded assistance to PIH-IMS.

8. PIH-IMS provides Form 50058 data on a monthly basis for the Enterprise Income Verification system (EIV) for the purpose of computer matching.

9. PIH-IMS also shares census tract data with the Geo coding Service Center system.

10. PIH-IMS provides information for performance reporting and data that assists in the budget formulation for the Capital Fund.

Policies and practices for storing, retrieving, accessing, retaining, and disposing of records in the system:

Storage:

Records are stored manually in family case files in the PHAs and electronically in office automation equipment. Records are stored on HUD computer servers for field office and public housing agencies' access via the Internet to: (1) Obtain social security and supplemental security income data that are not subject to provisions of 26 U.S.C. 6103; and (2) update actions taken in resolving income discrepancies. Software in IMS precludes the transfer of any data subject to 26 U.S.C. 6103 to unencrypted media. All of the IMS data is store on HUD's Servers. The disk and backup files are maintained by HUD's information technology partners—Electronic Data Services (EDS) and Lockheed Martin. The original (hard copy) files are stored in the originating PHA.

Irretrievability:

Records are retrieved by an individual's SSN.

Safeguards:

These are the measures used to protect the records from unauthorized access or disclosure:

1. The REAC-IT Web Access Secure SubSystem (WASS) provides audit logging for all system access via WASS's authentication of all users. Audit logging in WASS includes a keystroke logger which covers every keystroke of any user with in WASS.

2. WASS provides authentication methods that meet NIST requirements. Every user has a WASS ID and is authenticated via WASS.

3. The IMS System maintains record of each user's logons, logoffs, and logoff exceptions if any.

4. For each user, IMS system logs the number requests for web pages containing privacy data. The number of page view requests are tracked per page per session. The first and last timestamp of access for every privacy page is also recorded per session.

5. IMS system archives the user privileges data when a user is removed from the system or when the unmasked privacy data viewing privileges are modified.

6. Hard copy records are stored in lock file cabinets in rooms to which access is limited to those personnel who service the records.

7. Background screening, limited authorization and access with access limited to authorize personnel.

RETENTION AND DISPOSAL:

Electronic records are maintained and destroyed according to the HUD Records Disposition Schedule 2225.6. Records are maintained for a period of three years.

SYSTEM MANAGERS(s) AND ADDRESSES:

Gary Faeth, Acting IT Division Director for Public and Indian Housing Information Management, Potomac Center, 550 Twelfth Street, SW., First Floor, Washington, DC 20410, Telephone Number, (202) 475-8730 or Hitesh Doshi, IMS Information Technology Manager, Potomac Center, 550 Twelfth Street, First Floor, SW., Washington, DC 20410, Telephone Number, (202) 475-8940.

NOTIFICATION PROCEDURES:

For information, assistance, or inquiry about the existence of records, contact the Privacy Act Officer at the Department of Housing and Urban Development, 451 Seventh Street, SW., Washington, DC. Written requests must include the full name, Social Security Number, date of birth, current address, and telephone number of the individual making the request.

CONTESTING RECORD PROCEDURES:

Procedures for the amendment or correction of records and for applicants wanting to appeal initial agency determination appear in 24 CFR part 16. If additional information is needed, contact:

(i) In relation to contesting contents of records, the Departmental Privacy Act Officer at HUD, 451 Seventh Street, SW., Room 2256, Washington, DC 20410; and

(ii) In relation to appeals of initial denials, HUD, Departmental Privacy Appeals Officer, Office of General Counsel, 451 Seventh Street, SW., Washington, DC 20410.

RECORD SOURCE CATEGORIES:

IMS receives data from field office staff, federal government agencies, state and local agencies, private data sources, owners and management agencies. Public Housing Agencies (PHAs) routinely collect personal and income data from participants in and applicants for HUD's public and assisted housing programs. The data collected by PHAs is entered into IMS via the system itself by VPN, via PHA-owned software, or via HUD's Family Reporting software (FRS)

EXEMPTIONS FROM CERTAIN PROVISIONS OF THE ACT:

None.

[FR Doc. E8-23473 Filed 10-3-08; 8:45 am]

BILLING CODE 4210-67-P